DEPARTMENT OF ENERGY

Federal Energy Regulatory Commission

[Project No. 2246-065]

Yuba County Water Agency; Notice of Application Tendered for Filing With the Commission and Establishing Procedural Schedule for Licensing and Deadline for Submission of Final Amendments

Take notice that the following hydroelectric application has been filed with the Commission and is available for public inspection.

a. Type of Application: New Major License.

b. Project No.: 2246-065.

c. Date Filed: April 28, 2014.

d. Applicant: Yuba County Water Agency.

e. Name of Project: Yuba River Development Project.

f. Location: The Yuba River Development Project facilities are located on the western slope of the Sierra Nevada on the main stems of the Yuba River, the North Yuba River, the Middle Yuba River, and Oregon Creek (a tributary to the Middle Yuba River) in Yuba, Sierra, and Nevada Counties, California. Portions of the project occupy lands of the Plumas and Tahoe National Forests.

g. Filed Pursuant to: Federal Power Act, 16 U.S.C. 791 (a)-825(r).

h. Applicant Contact: Curt Aikens, General Manager, Yuba County Water Agency, 1220 F Street, Marysville, California 95901, 530-741-6278

i. FERC Contact: Alan Mitchnick at (202) 502-6074 or alan.mitchnick@ferc.gov.

j. This application is not ready for environmental analysis at this time.

k. The Project Description:

New Colgate Development

The New Colgate development consists of the following existing facilities: (1) The 70-foot-high, 368-foot-long Our House diversion dam with a storage capacity of 280 acre-feet, located on the Middle Yuba River 12.0 miles upstream of its confluence with the North Yuba River; (2) the 12.5-foot-high by 12.5-foot-wide, 19,410-foot-long Lohman Ridge diversion tunnel that conveys a maximum flow of 860 cubic feet per second (cfs) from the Middle Yuba River to Oregon Creek; (3) the 42.5-foot-high and 105-foot-radius Log Cabin diversion dam on Oregon Creek with a storage capacity of 90 acre-feet; (4) the 6,107-foot-long Camptonville diversion tunnel, with the capacity to convey 1,100 cfs of water to New Bullards Bar reservoir on the North Yuba River; (5) the 645-foot-high, 2,323-foot-long New Bullards Bar dam located on the North Yuba River about 2.3 miles upstream of its confluence with the Middle Yuba River, with an actual release capacity of 1,250 cfs; (6) the New Bullards Bar reservoir, a storage reservoir on the North Yuba River formed by New Bullards Bar dam, with a storage area of 4,790 acres; (7) the New Bullards Bar dam overflow-type spillway with a width of 106 feet and a crest elevation of 1,902 feet; (8) the 5.2-mile-long New Colgate Power tunnel and penstock, with a maximum flow capacity of 3,500 cfs; (9) the New Colgate powerhouse, located adjacent to the Yuba River containing two Pelton type turbines with a total generating capacity of 315 megawatts (MW); (10) the New Colgate switchyard, located adjacent to the New Colgate powerhouse; (11) recreation facilities on New Bullards Bar reservoir, including Emerald Cove Marina, Hornswoggle Group Camp, Schoolhouse Family Camp, Dark Day Campground, Dark Day Boat Ramp, Garden Point Campground, Madrone Cove Campground, and Cottage Creek Boat Ramp; and (12) appurtenant facilities and features including access roads.

The applicant proposes to construct a flood control outlet at New Bullards Bar dam and a tailwater depression system at New Colgate powerhouse.

New Bullards Bar Minimum Flow Development

The New Bullards Bar Minimum Flow Development consists of the following existing facilities: (1) The 70-foot long, 12-inch-diameter New Bullards minimum flow powerhouse penstock with a maximum flow capacity of 6 cfs; (2) the New Bullards minimum flow powerhouse, containing a single Pelton turbine with a capacity of 150 kilowatts; (3) the New Bullards minimum flow transformer, located adjacent to the New Bullards minimum flow powerhouse; and (4) appurtenant facilities and features, including access roads.

Narrows 2 Development

The Narrows 2 Development consists of the following existing facilities: (1) The Narrows 2 powerhouse penstock, a tunnel that is 20 feet in diameter and concrete lined in the upper 376 feet, and 14 feet in diameter and steel lined for the final 371.5 feet, with a maximum flow capacity of 3,400 cfs; (2) the Narrows 2 flow bypass, a valve and penstock branch off the main Narrows 2 penstock that provides the capability to bypass flows of up to 3,000 cfs around the Narrows 2 powerhouse during times of full or partial powerhouse shutdowns; (3) the Narrows 2 powerhouse, an indoor powerhouse located at the base of the U.S. Army Corps of Engineer's Englebright dam, consisting of one vertical axis Francis turbine with a generating capacity of 46.7 MW; (4) the Narrows 2 powerhouse switchyard, located adjacent to the powerhouse; and (5) appurtenant facilities and features, including access roads.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | May 2016.
Filing of recommendations, preliminary terms and conditions, and fishway prescriptions | July 2016.
Commission issues Draft Environmental Impact Statement (EIS) | January 2017.
Comments on Draft EIS | February 2017.
Modified Terms and Conditions | April 2017.
Commission Issues Final EIS | July 2017.

o. Final amendments to the application must be filed with the Commission no later than 30 days from the issuance date of the Notice of Ready for Environmental Analysis.

Dated: May 8, 2014.
Kimberly D. Bose,
Secretary.

[FR Doc. 2014-11101 Filed 5-13-14; 8:45 am]

BILLING CODE 6717-01-P